DEPARTMENT OF TRANSPORTATION

Federal Aviation Administration

14 CFR Part 39

[Docket No. FAA-2018-0305; Product Identifier 2013-NM-226-AD; Amendment 39-19259; AD 2018-09-03]

RIN 2120-AA64

Airworthiness Directives; Airbus Airplanes

AGENCY: Federal Aviation Administration (FAA), DOT.

ACTION: Final rule; request for comments.

SUMMARY: We are superseding Airworthiness Directive (AD) 2009-11-08, which applied to certain Airbus Model A330-202, -223, -243, -301, -322, and -342 airplanes. AD 2009-11-08 required repetitive special detailed (high frequency eddy current) inspections to detect cracking of the keel beam fitting horizontal flange edge at a certain frame (FR) on the left- and right-hand sides of the fuselage, and repair if necessary. This AD was prompted by a new fatigue and damage tolerance evaluation that concluded the current inspection thresholds and intervals had to be modified. This AD requires contacting the FAA to obtain instructions for addressing the unsafe condition on these products, and doing the actions specified in those instructions. We are issuing this AD to address the unsafe condition on these products.

DATES: This AD becomes effective May 15, 2018.

We must receive comments on this AD by June 14, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: U.S. Department of Transportation, Docket Operations,M-30, West Building Ground Floor, Room W12-140, 1200 New Jersey Avenue SE, Washington, DC, between 9 a.m. and 5 p.m., Monday through Friday, except Federal holidays.

Examining the AD Docket

You may examine the AD docket on the internet at http://www.regulations.gov by searching for and locating Docket No. FAA-2018-0305; or in person at the Docket Operations office between 9 a.m. and 5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Section, Transport Standards Branch, FAA, 2200 South 216th Street, Des Moines, WA 98198; telephone and fax: 206-231-3229.

SUPPLEMENTARY INFORMATION:

Discussion

We issued AD 2009-11-08, Amendment 39-15918 (74 FR 25404, May 28, 2009) (“AD 2009-11-08”), which applied to certain Airbus Model A330-202, -223, -243, -301, -322, and -342 airplanes. AD 2009-11-08 was prompted by reports of cracks on the left- and right-hand sides between the crossing area of the keel angle fitting and the front spar of the center wing box. AD 2009-11-08 required a special detailed (high frequency eddy current) inspection to detect cracking of the keel beam fitting horizontal flange edge at FR40 on the left- and right-hand sides of the fuselage, and repair if necessary. We issued AD 2009-11-08 to detect and correct cracking on the left- and right-hand sides, between the crossing area of the keel angle fitting and the front spar of the center wing box, which if not corrected, could affect the structural integrity of the airplane.

Since we issued AD 2009-11-08, a new fatigue and damage tolerance evaluation was conducted by the manufacturer. It was concluded that, due to airplane utilization, the current inspection thresholds and intervals had to be modified.

The European Aviation Safety Agency (EASA), which is the Technical Agent for the Member States of the European Union, has issued EASA AD 2013-0247, dated October 10, 2013 (referred to after this as the Mandatory Continuing Airworthiness Information, or “the MCAI”), to correct an unsafe condition for certain Airbus Model A330-202, -223, -243, -301, -322, and -342 airplanes. The MCAI states:

During the A330 and A340 aeroplane fatigue test, cracks appeared on the right and left sides between the crossing area of the keel angle fitting and the front spar of the Centre Wing Box (CWB). Several modifications were introduced in the fleet in the area of frame (FR) 40 keel angle assembly in order to prevent these cracks. However, the new design caused interference between one fastener and the keel angle which was corrected by further local reprofiling of the keel angle horizontal flange.

This condition, if not detected and corrected, could result in reduced structural integrity of the area.

Prompted by these findings, EASA issued AD 2008-0213 [which corresponds to FAA AD 2009-11-08] to require accomplishment of repetitive special detailed inspection on the horizontal flange of the keel beam in the area of first fastener hole aft of FR40 and, depending on findings, accomplishment of a repair.

Since that [EASA] AD was issued, a new fatigue and damage tolerance evaluation was conducted by Airbus. It was concluded that, due to aeroplane utilisation, the current inspection thresholds and intervals had to be modified.

For the reason described above, this [EASA] AD retains the requirements of EASA AD 2008-0213, which is superseded, and redefines the thresholds and intervals.

You may examine the MCAI on the internet at http://www.regulations.gov by searching for and locating Docket No. FAA-2018-0305.

FAA's Determination and Requirements of This AD

This product has been approved by the aviation authority of another country, and is approved for operation in the United States. Pursuant to our bilateral agreement with the State of Design Authority, we have been notified of the unsafe condition described in the MCAI. We are issuing this AD because we evaluated all pertinent information and determined the unsafe condition exists and is likely to exist or develop on other products of the same type design.

FAA's Determination of the Effective Date

Since there are currently no domestic operators of this product, we find good cause that notice and opportunity for prior public comment are unnecessary. In addition, for the reason(s) stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2018-0305; Product Identifier 2013-NM-226-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. This AD requires contacting the FAA to obtain instructions for addressing the unsafe condition, and doing the actions specified in those instructions. Based on the actions specified in the MCAI AD, we are providing the following cost estimates for an affected airplane that is placed on the U.S. Register in the future:

Estimated Costs
Action | Labor cost | Parts cost | Cost per product | Cost on U.S. operators
Inspection [new action] | 9 work-hours × $85 per hour = $765 | $0 | $765 | $0

We have received no definitive data that would enable us to provide cost estimates for the on-condition actions specified in the MCAI AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-11-08, Amendment 39-15918 (74 FR 25404, May 28, 2009), and adding the following new AD:

2018-09-03 Airbus: Amendment 39-19259; Docket No. FAA-2018-0305; Product Identifier 2013-NM-226-AD.

(a) Effective Date

This AD becomes effective May 15, 2018.

(b) Affected ADs

This AD replaces AD 2009-11-08, Amendment 39-15918 (74 FR 25404, May 28, 2009) (“AD 2009-11-08”).

(c) Applicability

This AD applies to Airbus Model A330-202, -223, -243, -301, -322, and -342 airplanes, certificated in any category, manufacturer serial numbers: 0177, 0181, 0183, 0184, 0188, 0189, 0191, 0195, 0198, 0200, 0203, 0205, 0206, 0209, 0211, 0219, 0222, 0223, 0224, 0226, 0229, 0230, 0231, 0232, 0234, 0238, 0240, 0241, 0244, 0247, 0248, 0249, 0250, 0251, 0253, 0254, and 0255.

(d) Subject

Air Transport Association (ATA) of America Code 53, Fuselage.

(e) Reason

This AD was prompted by reports of cracks on the left- and right-hand sides between the crossing area of the keel angle fitting and the front spar of the center wing box and by a new fatigue and damage tolerance evaluation that concluded the current inspection thresholds and intervals had to be modified. We are issuing this AD to detect and correct cracking on the left- and right-hand sides between the crossing area of the keel angle fitting and the front spar of the center wing box, which if not corrected, could affect the structural integrity of the airplane.

(f) Compliance

Comply with this AD within the compliance times specified, unless already done.

(g) Required Actions

Within 30 days after the effective date of this AD, request instructions from the Manager, International Section, Transport Standards Branch, FAA, to address the unsafe condition specified in paragraph (e) of this AD; and accomplish the actions at the times specified in, and in accordance with, those instructions. Guidance can be found in Mandatory Continuing Airworthiness Information (MCAI) European Aviation Safety Agency (EASA) AD 2013-0247, dated October 10, 2013.

(h) Alternative Methods of Compliance (AMOCs)

The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(i) Related Information

(1) Refer to MCAI EASA AD 2013-0247, dated October 10, 2013, for related information. You may examine the MCAI on the internet at http://www.regulations.gov by searching for and locating Docket No. FAA-2018-0305.

(2) For more information about this AD, contact Vladimir Ulyanov, Aerospace Engineer, International Section, Transport Standards Branch, FAA, 2200 South 216th Street, Des Moines, WA 98198; telephone and fax: 206-231-3229.

(j) Material Incorporated by Reference

None.

Issued in Des Moines, Washington, on April 17, 2018.
Michael Kaszycki,
Acting Director, System Oversight Division, Aircraft Certification Service.

[FR Doc. 2018-08654 Filed 4-27-18; 8:45 am]

BILLING CODE 4910-13-P